FEDERAL TRADE COMMISSION

Agency Information Collection Activities; Submission for OMB Review; Comment Request

AGENCY: Federal Trade Commission.

ACTION: Notice.

SUMMARY: The Federal Trade Commission (FTC) has submitted to the Office of Management and Budget (OMB) for review under the Paperwork Reduction Act (PRA) information collection requirements contained in its Alternative Fuel Rule. The FTC is soliciting public comments on the proposal to extend through November 30, 2003 the current PRA clearance for information collection requirements contained in the Rule. That clearance expires on November 30, 2000.

DATES: Comments must be filed by November 22, 2000.

ADDRESSES: Send written comments to the Office of Information and Regulatory Affairs, Office of Management and Budget, New Executive Office Building, Room 10202, Washington, DC 20503, ATTN.: Desk Officer for the Federal Trade Commission, and to Secretary, Federal Trade Commission, Room H-159, 600 Pennsylvania Ave., NW., Washington, DC 20580. All comments should be captioned “Alternative Fuel Rule: Paperwork comment.”

FOR FURTHER INFORMATION CONTACT: Requests for copies of the collection of information and supporting documentation should be addressed to Neil Blickman, Division of Enforcement, Bureau of Consumer Protection, Federal Trade Commission, Room S-4302, 601 Pennsylvania Ave., NW., Washington, DC 20580.

SUPPLEMENTARY INFORMATION: On August 16, 2000, the FTC sought comment on the information collection requirements associated with the Alternative Fuel Rule (“Rule”), 16 CFR part 309 (Control Number: 3084-0094). See 65 FR 49987. No comments were received.

The Rule, which implements the Energy Policy Act of 1992, Pub. L. 102-486, requires disclosure of specific information on labels posted on fuel dispensers for non-liquid alternative fuels and on labels on Alternative Fueled Vehicles (AFVs). To ensure the accuracy of these disclosures, the Rule also requires that sellers maintain records substantiating product-specific disclosures they include on these labels.

Burden Statement

“Burden” for PRA purpose is defined to exclude effort that would be expended regardless of any regulatory requirement. 5 CFR 1320.2(b)(2). It is common practice for alternative fuel industry members to determine and monitor fuel ratings in the normal course of their business activities. This is because industry members must know and determine the fuel ratings of their products in order to monitor quality and to decide how to market them. Moreover, as originally anticipated when the Rule was promulgated in 1995, many of the information collection requirements and the originally-estimated hours were associated with one-time start up tasks of implementing standard systems and processes.

Other factors also limit the burden associated with the Rule. Certification may be a one-time event to require only infrequent revision. Disclosure labels on fuel dispensing systems for electric vehicles may be usable for several years. (Label specifications were designed to produce labels to withstand the elements for several years.) Nonetheless, there is still some burden associated with posting labels. There also will be some minimal burden associated with new or revised certification of fuel ratings and recordkeeping. The burden on vehicle manufacturers to develop or revise labels is limited because manufacturers produce very few new models each year. Finally, there will be come burden, also minor, associated with recordkeeping requirements.

Estimated total annual hours burden: 1,500 total burden hours, rounded.

Non-Liquid Alternative Fuels

Certification: Staff estimates that the Rule's fuel rating certification requirements affect approximately 350 industry members (compressed natural gas producers and distributors and manufacturers of fuel dispensing systems for electric vehicles) and consume approximately one hour each per year for a total of 350 hours.

Recordkeeping: Staff estimates that all 1,600 industry members are subject to the Rule's recordkeeping requirements (associated with fuel rating certification) and that compliance will require approximately one-tenth hour each year for a total of 160 hours.

Labeling: Staff estimates that labeling requirements affect approximately nine of every ten industry members (or roughly 1,400 members), but that the number of annually affected members is only 280 because labels may remain effective for several years (staff assumes that in any given year approximately 20% of 1,400 industry members will need to replace their labels). Staff estimates that industry members require approximately one hour each per year for labeling their fuel dispensers for a total of 280 hours.

Sub-total: 790 hours (160+350+280).

AFV Manufacturers

Recordkeeping: Staff estimates that all 58 manufacturers will require 30 minutes to comply with the Rule's recordkeeping requirements for a total of 29 hours.

Producing labels: Staff estimates 2.5 hours as the average time required of manufacturers to produce labels for each of the five new AFV models introduced among them each year for a total of 12.5 hours.

Posting labels: Staff estimates 2 minutes as the average time to comply with the posting requirements for each of the approximately 20,000 new AFVs manufactured each year for a total of 667 hours.

Sub-total: approximately 708 hours (29+12.5+667).

Thus, total burden for these industries combined is approximately 1,500 hours (790+708).

Estimated labor costs: $27,000, rounded.

Labor costs are derived by applying appropriate hourly cost figures to the burden hours described above. According to Bureau of Labor Statistics staff, the average compensation for producers and distributors in the fuel industry is $19.42 per hour and $8.42 per hour for service station employees; the average compensation for workers in the vehicle industry is $19.14 per hour.

Non-Liquid Alternative Fuels

Recordkeeping: Only ⅙ of the total 160 hours will be performed by the producers and distributors of fuels; the other ⅚ is attributable to service station employees (⅙ = 27 hours × $19.42 = $524.34 + (⅚ + 133 hours × $8.42 = $1,119.86) = $1,644.20, for an estimated labor cost to the entire industry of $13,878.80.

Certification and labeling: Generally, all of the estimated hours except for recordkeeping will be performed by producers and distributors of fuels. Thus, the associated labor costs would be $12,234.60 (630 hours × $19.42).

AFV Manufacturers

The maximum labor cost to the entire industry is approximately $13,551.12 per year for recordkeeping and producing and posting labels (708 total hours × $19.14/hour).

Thus, estimated total labor cost for both industries for all paperwork requirements is $27,000 ($13,878.80 + $13,551.12) per year, rounded to the nearest thousand.

Estimated annual non-labor cost burden: $8,000, rounded.

Non-Liquid Alternative Fuels

Staff believes that there are no current start-up costs associated with the Rule, inasmuch as the Rule has been effective since 1995. Industry members, therefore, have in place the capital equipment and means necessary, especially to determine automotive fuel ratings and comply with the Rule. Industry members, however, incur the cost of procuring fuel dispenser and AFV labels to comply with the Rule. The estimated annual fuel labeling cost, based on estimates of 360 fuel dispensers (assumptions: an estimated 20% of 900 total retailers need to replace labels in any given year given an approximate five-year life for labels—i.e., 180 retailers—multiplied by an average of two dispensers per retailer) at thirty-eight cents for each label (per industry sources), is $136.80.

AFV Manufacturers

Here, too, staff believes that there are no current start-up costs associated with the Rule, for the same reasons as stated immediately above regarding the non-liquid alternative fuel industry. However, based on the labeling of an estimated 20,000 new and used AFVs each year at thirty-eight cents for each label (per industry sources), the annual AFV labeling cost is estimated to be $7,600. Estimated total annual non-labor cost burden associated with the Rule, therefore, would be $8,000 ($136.80 + $7,600.00), rounded to the nearest thousand.

Debra A. Valentine,
General Counsel.

[FR Doc. 00-27158 Filed 10-20-00; 8:45 am]

BILLING CODE 6750-01-M